DEPARTMENT OF THE INTERIOR

Bureau of Land Management

[LLCAN01000.L10200000.XZ0000]

Notice of Public Meeting: Northwest California Resource Advisory Council

AGENCY: Bureau of Land Management, Interior.

ACTION: Notice of Public Meeting.

SUMMARY: In accordance with the Federal Land Policy and Management Act of 1976 (FLPMA), and the Federal Advisory Committee Act of 1972 (FACA), the U. S. Department of the Interior, Bureau of Land Management (BLM) Northwest California Resource Advisory Council will meet as indicated below.

DATES: The meeting will be held Wednesday and Thursday, Sept. 7 and 8, 2011, at the BLM Arcata Field Office, 1695 Heindon Rd., Arcata, California. On Sept. 7, the RAC will convene at 10 a.m. and depart for a field tour to the Lost Coast Headlands project and the South Spit Management Area. Members of the public are welcome. They must provide their own transportation, food and beverages. On Sept. 8, the council will convene at 8 a.m. in the Conference Room of the BLM Arcata Field Office. The meeting is open to the public. Time for public comment has been reserved at 11 a.m.

FOR FURTHER INFORMATION CONTACT: Nancy Haug, BLM Northern California District manager, (530) 224-2160; or BLM Public Affairs Officer Joseph J. Fontana, (530) 252-5332.

SUPPLEMENTARY INFORMATION: The 12-member council advises the Secretary of the Interior, through the BLM, on a variety of planning and management issues associated with public land management in Northwest California. At this meeting agenda topics include management of the King Range National Conservation Area, status of the Walker Ridge Wind Energy proposal, management of the Sacramento River Bend Area of Critical Environmental Concern and environmental education programs. All meetings are open to the public. Members of the public may present written comments to the council. Each formal council meeting will have time allocated for public comments. Depending on the number of persons wishing to speak, and the time available, the time for individual comments may be limited. Members of the public are welcome on field tours, but they must provide their own transportation and lunch. Individuals who plan to attend and need special assistance, such as sign language interpretation and other reasonable accommodations, should contact the BLM as provided above.

Dated: August 3, 2011.
Joseph J. Fontana,
Public Affairs Officer.

[FR Doc. 2011-20462 Filed 8-10-11; 8:45 am]

BILLING CODE 4310-40-P